FEDERAL ELECTION COMMISSION

Sunshine Act Notices

Date and Time: Tuesday, November 20, 2007 at 10:00 a.m.

Place: 999 E Street, NW., Washington, DC (Ninth Floor).

Status: This meeting will be open to the public.

Items to be Discussed: Correction and Approval of Minutes.

Final Rules on Electioneering Communications.

Management and Administrative Matters.

Person to Contact for Information: Mr. Robert Biersack, Press Officer, Telephone: (202) 694-1220.

Mary W. Dove,
Secretary of the Commission.

[FR Doc. 07-5651 Filed 11-8-07; 3:19 pm]

BILLING CODE 6715-01-M